ENVIRONMENTAL PROTECTION AGENCY

[OPP-2004-0054; FRL-7349-8]

Notice of Receipt of Requests To Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by February 14, 2005 or September 17, 2004 for EPA Registration Number(s): 000264-00706, 000264-00707, 000264-00708, 000264-00709, 000264-00710, 000264-00711, 000264-00712, 000264-00713, 000264-714, 000264-00715, 000499-00369, 002517-00043, 002517-00044, 002517-00045, 002517-00046, 005625-00001, 007969-00116, 007969-00127, 008660-00045, 008660-00049, 008660-00055, 008660-00057,034704-00788, orders will be issued canceling these registrations. The Agency will consider withdrawal requests postmarked no later than February 14, 2005 on all the other EPA Registration Numbers.

FOR FURTHER INFORMATION CONTACT: James A. Hollins, Information Resources Services Division (7502C), Office of Pesticide Programs, Environmental Protection Agency, 1200 Pennsylvania Ave., NW., Washington, DC 20460-0001; telephone number: (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2004-0054. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of applications from registrants to cancel some 260 pesticide products registered under section 3 or 24(c) of FIFRA. These registrations are listed in sequence by registration number (or company number and 24(c) number) in Table 1 of this unit:

Table—Registrations With Pending Requests for Cancellation
Registration no. | Product Name | Chemical Name
000056-00041 | Eaton's Bait Blocks Rodenticide with Apple Flavorizer | Diphenylacetyl)-1,3-indandione
000056-00044 | Eaton's All Weather Bait Blocks Rodenticide with Fish F | Diphenylacetyl)-1,3-indandione
000070-00124 | Kill-Ko Malathion Concentrate | Dimethyl phosphorodithioate of diethyl mercaptosuccinate
000100-01005 | Demon 3E\Insecticide | Cyclopropanecarboxylic acid, 3-(2,2-dichloroethenyl)-2,2-dimethyl-, cyano(3-phenoxyphenyl)me
000100-01007 | Demon 3 TC Insecticide | Cyclopropanecarboxylic acid, 3-(2,2-dichloroethenyl)-2,2-dimethyl-, cyano(3-phenoxyphenyl)me
000100-01011 | Commodore EC Insecticide | Cyano-3-phenoxybenzyl (1S+1R)-cis-3-(Z-2-chloro-3,3,3-trifluoroprop-1-enyl)-2,2-dimethylcycl
000100-01044 | Commodore WP Insecticide | Cyano-3-phenoxybenzyl (1S+1R)-cis-3-(Z-2-chloro-3,3,3-trifluoroprop-1-enyl)-2,2-dimethylcycl
000100-01045 | Scimitar WP Insecticide | Cyano-3-phenoxybenzyl (1S+1R)-cis-3-(Z-2-chloro-3,3,3-trifluoroprop-1-enyl)-2,2-dimethylcycl
000100-01058 | Commodore WP Insecticide In Water-Soluble Packets | Cyano-3-phenoxybenzyl (1S+1R)-cis-3-(Z-2-chloro-3,3,3-trifluoroprop-1-enyl)-2,2-dimethylcycl
000100-01076 | Scimitar WP Greenhouse Insecticide In Water Soluble Pac | Cyano-3-phenoxybenzyl (1S+1R)-cis-3-(Z-2-chloro-3,3,3-trifluoroprop-1-enyl)-2,2-dimethylcycl
000100-01077 | Scimitar WP Greenhouse Insecticide | Cyano-3-phenoxybenzyl (1S+1R)-cis-3-(Z-2-chloro-3,3,3-trifluoroprop-1-enyl)-2,2-dimethylcycl
000100-01081 | Scimitar CS Greenhouse Insecticide | Cyano-3-phenoxybenzyl (1S+1R)-cis-3-(Z-2-chloro-3,3,3-trifluoroprop-1-enyl)-2,2-dimethylcycl
000100-01085 | Commodore Insecticide In Ready Mix Water Soluble Packet | Cyano-3-phenoxybenzyl (1S+1R)-cis-3-(Z-2-chloro-3,3,3-trifluoroprop-1-enyl)-2,2-dimethylcycl
000100-01089 | Scimitar WP Golf Course Turf Insecticide | Cyano-3-phenoxybenzyl (1S+1R)-cis-3-(Z-2-chloro-3,3,3-trifluoroprop-1-enyl)-2,2-dimethylcycl
000100-01090 | Scimitar WP Turf and Ornamental Insecticide | Cyano-3-phenoxybenzyl (1S+1R)-cis-3-(Z-2-chloro-3,3,3-trifluoroprop-1-enyl)-2,2-dimethylcycl
000100-01096 | Lambda-Cyhalothrin CS Insecticide | Cyano-3-phenoxybenzyl (1S+1R)-cis-3-(Z-2-chloro-3,3,3-trifluoroprop-1-enyl)-2,2-dimethylcycl
000100-01100 | Scimitar G Insecticide In Water Soluble Packets | Cyano-3-phenoxybenzyl (1S+1R)-cis-3-(Z-2-chloro-3,3,3-trifluoroprop-1-enyl)-2,2-dimethylcycl
000100 AL-99-0004 | Warrior T Insecticide | Cyano-3-phenoxybenzyl (1S+1R)-cis-3-(Z-2-chloro-3,3,3-trifluoroprop-1-enyl)-2,2-dimethylcycl
000100 AZ-95-0001 | Eptam (R) 20. G Granules | Ethyl dipropylthiocarbamate
000100 CO-03-0001 | Warrior Insecticide with Zeon Technology | Cyano-3-phenoxybenzyl (1S+1R)-cis-3-(Z-2-chloro-3,3,3-trifluoroprop-1-enyl)-2,2-dimethylcycl
000100 MN-90-0004 | Gramoxone Extra Herbicide | Dimethyl-4,4'-bipyridinium dichloride
000100 MN-95-0005 | Fusilade DX Herbicide | Butyl (R)-2-(4-((5-(trifluoromethyl)-2-pyridinyl)oxy)phenoxy)propanoate
000100 MN-99-0015 | Warrior T Insecticide | Cyano-3-phenoxybenzyl (1S+1R)-cis-3-(Z-2-chloro-3,3,3-trifluoroprop-1-enyl)-2,2-dimethylcycl
000100 MT-01-0003 | Tough 5 EC | Chloro-3-phenyl-4-pyridazinyl) S-octyl carbonothioate
000100 MT-95-0006 | Warrior Insecticide | Cyano-3-phenoxybenzyl (1S+1R)-cis-3-(Z-2-chloro-3,3,3-trifluoroprop-1-enyl)-2,2-dimethylcycl
000100 MT-99-0009 | Tough 5 EC | Chloro-3-phenyl-4-pyridazinyl) S-octyl carbonothioate
000100 ND-99-0010 | Warrior T Insecticide | Cyano-3-phenoxybenzyl (1S+1R)-cis-3-(Z-2-chloro-3,3,3-trifluoroprop-1-enyl)-2,2-dimethylcycl
000100 OR-02-0014 | Abound Flowable Fungicide | Azoxystrobin(BSI, ISO )
000100 OR-79-0077 | Aatrex Nine - O Herbicide | Chloro-4-(ethylamino)-6-(isopropylamino)-s-triazine
000100 TX-83-0016 | D.Z.N. Diazinon AG 500 | Diethyl O-(2-isopropyl-6-methyl-4-pyrimidinyl) phosphorothioate
000100 TX-90-0009 | Gramoxone Extra Herbicide | Dimethyl-4,4'-bipyridinium dichloride
000100 TX-96-0005 | Cyclone Herbicide | Dimethyl-4,4'-bipyridinium dichloride
000100 WA-79-0078 | Aatrex Nine-O | Chloro-4-(ethylamino)-6-(isopropylamino)-s-triazine
000100 WA-80-0083 | Aatrex 80W Herbicide | Chloro-4-(ethylamino)-6-(isopropylamino)-s-triazine
000100 WA-97-0002 | Mefenoxam EC | Alanine, N-(2,6-dimethylphenyl)-N-(methoxyacetyl)-, methyl ester (CAS NAME)
000100 WA-97-0025 | Eptam 7-E Selective Herbicide | Ethyl dipropylthiocarbamate
000100 WA-99-0024 | Warrior T Insecticide | Cyano-3-phenoxybenzyl (1S+1R)-cis-3-(Z-2-chloro-3,3,3-trifluoroprop-1-enyl)-2,2-dimethylcycl
000192-00214 | Riverdale 5% Granular Insecticide | Phosphorothioic acid, O,O'-(thiodi-4,1-phenylene) O,O,O',O'-tetramethyl ester
000192-00216 | Riverdale Abate 4 EC | Phosphorothioic acid, O,O'-(thiodi-4,1-phenylene) O,O,O',O'-tetramethyl ester
000228-00099 | Riverdale 10% Dacthal Granules | Dimethyl tetrachloroterephthalate
000228-00157 | Riverdale Crabgrass Control and Fertilizer | Dimethyl tetrachloroterephthalate
000228-00161 | Riverdale Grub Out Plus Fertilizer | Diethyl O-(3,5,6-trichloro-2-pyridyl) phosphorothioate
000228-00222 | Riverdale 25% Dacthal Dust | Dimethyl tetrachloroterephthalate
000241 AZ-00-0003 | Acrobat MZ Fungicide | Zinc ion andmanganese ethylenebisdithiocarbamate, coordination product Morpholine, 3-(3-(4-chlorophenyl)-3-(3,4-dimethoxyphenyl)-1-oxo-2-propenyl)-
000241 OR-00-0008 | Prowl 3.3 EC Herbicide | Ethylpropyl)-3,4-dimethyl-2,6-dinitrobenzenamine
000241 WA-02-0022 | Acrobat 50WP Fungicide | Morpholine, 3-(3-(4-chlorophenyl)-3-(3,4-dimethoxyphenyl)-1-oxo-2-propenyl)-
000264-00706 | 2,4-DP Dichlorprop | Dichlorophenoxy)propionic acid
000264-00707 | 2,4-DP Technical | Dichlorophenoxy)propionic acid
000264-00708 | Technical 2, 4-DP | Dichlorophenoxy)propionic acid
000264-00709 | DP-4-Amine | Dimethylamine 2-(2,4-dichlorophenoxy)propionate
000264-00710 | 2,4-DP Isooctyl Ester Technical | Isooctyl 2-(2,4-dichlorophenoxy)propionate
000264-00711 | DP-4 | Isooctyl 2-(2,4-dichlorophenoxy)propionate
000264-00712 | MCPP Technical Acid | Methyl-4-chlorophenoxy)propionic acid
000264-00713 | Technical MCPP Acid | Methyl-4-chlorophenoxy)propionic acid
000264-00714 | MCPP-Tech | Methyl-4-chlorophenoxy)propionic acid
000264-00715 | MCPP Technical | Methyl-4-chlorophenoxy)propionic acid
000279 CO-03-0002 | Fury 1.5 EW Insecticide | Cyano(3-phenoxyphenyl)methyl (+/-)-cis/trans-3-(2,2-dichloethenyl)-2,2-dimethylcyclopropanec
000279 WA-78-0033 | Thiodan 50WP Insecticide | Hexachloro-1,5,5a,6,9,9a-hexahydro-6,9-methano-2,4,3-benzodioxathiepin-3-oxide
000352 LA-03-0002 | Dupont Krenite S Brush Control Agent | Ammonium ethyl carbamoylphosphonate
000400 OR-88-0013 | Dimilin 25W for Cotton/Soybean | Chlorophenyl)-3-(2,6-difluorobenzoyl)urea
000400 WA-77-0012 | Comite Agricultural Miticide | Butylphenoxy)cyclohexyl 2-propynyl sulfite
000400 WA-89-0020 | Comite Agricultural Miticide | Butylphenoxy)cyclohexyl 2-propynyl sulfite
000464-00669 | Bronopol Preservative | Bromo-2-nitropropane-1,3-diol
000499-00369 | Whitmire PT 1300 Orthene Total Release Insecticide | Dimethyl acetylphosphoramidothioate
000524 WI-01-0010 | Mon 78112 Herbicide | Isopropylamine glyphosate ( N-(phosphonomethyl)glycine )
000769-00624 | SMCP Malathion 50% | Dimethyl phosphorodithioate of diethyl mercaptosuccinate
000769-00673 | SMCP 5% Malathion Dust | Dimethyl phosphorodithioate of diethyl mercaptosuccinate
000769-00676 | SMCP Malathion 25-Wp | Dimethyl phosphorodithioate of diethyl mercaptosuccinate
000769-00677 | SMCP Malathion 5% Pco Dust | Dimethyl phosphorodithioate of diethyl mercaptosuccinate
000769-00724 | SMCP Abate 1% Granular(celatom) | Phosphorothioic acid, O,O'-(thiodi-4,1-phenylene) O,O,O',O'-tetramethyl ester
000769-00726 | Golf Course Turf & Industrial Site Perimeter Granul | Diethyl O-(3,5,6-trichloro-2-pyridyl) phosphorothioate
000769-00752 | PCE Malathion DDVP Residual Spray | Dimethyl phosphorodithioate of diethyl mercaptosuccinate Dichlorovinyl dimethyl phosphate
000769-00783 | Superior Malathion E-45 | Dimethyl phosphorodithioate of diethyl mercaptosuccinate
000769-00785 | Omnikill Roack and Ant Bomb | Octyl bicycloheptene dicarboximide Dimethyl phosphorodithioate of diethyl mercaptosuccinate Pyrethrins
000769-00786 | Superior S. K. Formula | Dimethyl phosphorodithioate of diethyl mercaptosuccinate Aliphatic petroleum hydrocarbons Butylcarbityl)(6-propylpiperonyl) ether 80% and related compounds 20% Pyrethrins
000769-00809 | Superior EC 5 Malathion Concentrate | Dimethyl phosphorodithioate of diethyl mercaptosuccinate
000769-00903 | Science Garden Insect Spray | Methoxychlor( 2,2-bis(p-methoxyphenyl)-1,1,1-trichloroethane ) Dimethyl phosphorodithioate of diethyl mercaptosuccinate
000829-00223 | SA-50 Dursban .5G Granular Insecticide | Diethyl O-(3,5,6-trichloro-2-pyridyl) phosphorothioate
000829-00232 | SA-50 Brand Lawn Ormamental & Vegetable Fungicide | Tetrachloroisophthalonitrile
000829-00272 | SA-50 Brand Dursban Mole Cricket Bait | Diethyl O-(3,5,6-trichloro-2-pyridyl) phosphorothioate
001022-00543 | Chapcide 4-EC | Diethyl O-(3,5,6-trichloro-2-pyridyl) phosphorothioate
001386-00613 | Dursban Lawn and Ornamental Insect Control | Diethyl O-(3,5,6-trichloro-2-pyridyl) phosphorothioate
001386-00615 | Termite Kill II | Diethyl O-(3,5,6-trichloro-2-pyridyl) phosphorothioate
001386-00649 | Dursban 4E | Diethyl O-(3,5,6-trichloro-2-pyridyl) phosphorothioate
001386-00652 | Security Pro-Turf 1 Insect Control Granules | Diethyl O-(3,5,6-trichloro-2-pyridyl) phosphorothioate
001386-00653 | Security Pro-Turf 2 Insect Control Granules | Diethyl O-(3,5,6-trichloro-2-pyridyl) phosphorothioate
001812-00446 | Chlorpyrifos 6MUP | Diethyl O-(3,5,6-trichloro-2-pyridyl) phosphorothioate
001812 OR-01-0020 | Direx 4l | Dichlorophenyl)-1,1-dimethylurea
001812 OR-01-0021 | Direx 80DF | Dichlorophenyl)-1,1-dimethylurea
001812 OR-99-0005 | Direx 80DF | Dichlorophenyl)-1,1-dimethylurea
002517-00043 | Sergeant's Sentry IV Flea & Tick Collar | Dibromo-2,2-dichloroethyl dimethyl phosphate
002517-00044 | Sergeant's Sentry IV Flea & Tick Collar | Dibromo-2,2-dichloroethyl dimethyl phosphate
002517-00045 | Sergeant's (R) Sentry V Flea &Tick Collar for Dogs | Dibromo-2,2-dichloroethyl dimethyl phosphate Isopropoxyphenyl methylcarbamate
002517-00046 | Sergeant's (R) Sentry V Flea &Tick Collar for Cats | Dibromo-2,2-dichloroethyl dimethyl phosphate Isopropoxyphenyl methylcarbamate
002724-00169 | Vet-Kem Kemolate Emulsifiable Liquid | Mercaptomethyl)phthalimide S-(O,O-dimethyl phosphorodithioate)
002724 OR-99-0046 | Mavrik Aquaflow Insecticide | Chloro-4-trifluoromethyl)phenyl)-D-valine (+-)-cyano(3-phenoxyphenyl)methyl ester
002935-00426 | Lorsban 30 Flowable | Diethyl O-(3,5,6-trichloro-2-pyridyl) phosphorothioate
003125 OR-87-0001 | Sencor 4 Flowable Herbicide | Triazin-5(4H)-one, 4-amino-6-(1,1-dimethylethyl)-3-(methylthio)-
003125 WA-99-0002 | Admire 2 Flowable | Chloro-3-pyridinyl)methyl)-N-nitro-2-imidazolidinimine
004822-00482 | Raid PID 1 | Cyano-m-phenoxybenzyl (1R,3R)-3-(2,2-dibromovinyl)-2,2-dimethylcyclopropanecarboxylate
005481 FL-89-0003 | Dibrom 14 Concentrate | Dibromo-2,2-dichloroethyl dimethyl phosphate
005481 MD-81-0023 | Dibrom Concentrate | Dibromo-2,2-dichloroethyl dimethyl phosphate
005481 NY-94-0006 | Dibrom Concentrate | Dibromo-2,2-dichloroethyl dimethyl phosphate
005481 NY-97-0005 | Trumpet EC Insecticide | Dibromo-2,2-dichloroethyl dimethyl phosphate
005481 OR-00-0019 | Win-Flo 4F | Pentachloronitrobenzene
005625-00001 | Tempo Marine Outboard Outdrive Clear Anti-Fouling Paint | Tributyltin methacrylate
007501-00029 | Gustafon Lorsban 50-Sl | Diethyl O-(3,5,6-trichloro-2-pyridyl) phosphorothioate
007501 WA-84-0070 | Gustafson Pro-Gro Dust Seed Protectant | Tetramethyl thiuramdisulfide Dihydro-2-methyl-1,4-oxathiin-3-carboxanalide
007969-00116 | MCPP Amine 4 | Dimethylamine 2-(2-methyl-4-chlorophenoxy)propionate
007969-00127 | Mecoprop AK Technical Acid | Methyl-4-chlorophenoxy)propionic acid
008378-00026 | Dursban 92 With Plant Food | Diethyl O-(3,5,6-trichloro-2-pyridyl) phosphorothioate
008378-00034 | 2.32 Dursban Granules | Diethyl O-(3,5,6-trichloro-2-pyridyl) phosphorothioate
008660-00045 | Malathion Grain Protectant (Premium Grade) | Dimethyl phosphorodithioate of diethyl mercaptosuccinate
008660-00049 | 55% Malathion Concentrate | Dimethyl phosphorodithioate of diethyl mercaptosuccinate
008660-00055 | Malathion Grain Protectant | Dimethyl phosphorodithioate of diethyl mercaptosuccinate
008660-00057 | Patterson's Greenup 5% Malathion Dust | Dimethyl phosphorodithioate of diethyl mercaptosuccinate
008848-00061 | Black Jack Ant Baits | Diethyl O-(3,5,6-trichloro-2-pyridyl) phosphorothioate
009198-00084 | Andersons Tee Time 30-3-5 with 0.65% Dursban | Diethyl O-(3,5,6-trichloro-2-pyridyl) phosphorothioate
009198-00127 | Twinlight Dursban Turf Insect Killer | Diethyl O-(3,5,6-trichloro-2-pyridyl) phosphorothioate
009198-00132 | The Andersons 0.97% Dursban Brand Insecticide | Diethyl O-(3,5,6-trichloro-2-pyridyl) phosphorothioate
009198-00200 | Fertilizer Plus Insecticide/Preemergent Weed Control | Diethyl O-(3,5,6-trichloro-2-pyridyl) phosphorothioate Ethylpropyl)-3,4-dimethyl-2,6-dinitrobenzenamine
009444-00184 | CB Strikeforce HPX II Residual with Dursban | Diethyl O-(3,5,6-trichloro-2-pyridyl) phosphorothioate
009444-00202 | Strikeforce II Residual with Dursban | Diethyl O-(3,5,6-trichloro-2-pyridyl) phosphorothioate
010088-00085 | Surface Insecticide | Octyl bicycloheptene dicarboximide Diethyl O-(3,5,6-trichloro-2-pyridyl) phosphorothioate Butylcarbityl)(6-propylpiperonyl) ether 80% and related compounds 20% Pyrethrins
010088-00094 | Ultra Insecticide | Diethyl O-(3,5,6-trichloro-2-pyridyl) phosphorothioate Benzyl-3-furyl)methyl 2,2-dimethyl-3-(2-methylpropenyl)cyclopropanecarboxylate
010163-00166 | Imidan 50-WP Agricultural Insecticide | Mercaptomethyl)phthalimide S-(O,O-dimethyl phosphorodithioate)
010163-00170 | Imidan 12.5-WP Home Garden Insecticide | Mercaptomethyl)phthalimide S-(O,O-dimethyl phosphorodithioate)
010163-00173 | Imidan 1-E Home Garden Insecticide | Mercaptomethyl)phthalimide S-(O,O-dimethyl phosphorodithioate)
010163-00227 | Prolate Technical Livestock Insecticide | Mercaptomethyl)phthalimide S-(O,O-dimethyl phosphorodithioate)
010163 FL-00-0005 | Imidan 70-WP Agricultural Insecticide | Mercaptomethyl)phthalimide S-(O,O-dimethyl phosphorodithioate)
010163 NC-95-0009 | Imidan 70-WSB/imidan 70 - WP | Mercaptomethyl)phthalimide S-(O,O-dimethyl phosphorodithioate)
010163 NC-98-0006 | Imidan 70-WSB | Mercaptomethyl)phthalimide S-(O,O-dimethyl phosphorodithioate)
010163 OR-94-0045 | Imidan 70-WP Agricultural Insecticide | Mercaptomethyl)phthalimide S-(O,O-dimethyl phosphorodithioate)
010163 OR-94-0047 | Imidan 70-WP Agricultural Insecticide | Mercaptomethyl)phthalimide S-(O,O-dimethyl phosphorodithioate)
010163 SC-99-0005 | Imidan 70-WP Agricultural Insecticide | Mercaptomethyl)phthalimide S-(O,O-dimethyl phosphorodithioate)
010163 WA-90-0027 | Diazinon 14G | Diethyl O-(2-isopropyl-6-methyl-4-pyrimidinyl) phosphorothioate
010182 AL-83-0013 | Ambush Insecticide | Cyclopropanecarboxylic acid, 3-(2,2-dichloroethenyl)-2,2-dimethyl-, (3-phenoxyphenyl)methyl
010182 AL-94-0005 | Gramoxone Extra Herbicide | Dimethyl-4,4'-bipyridinium dichloride
010182 MT-00-0006 | Gramoxone Extra Herbicide | Dimethyl-4,4'-bipyridinium dichloride
010182 TX-01-0004 | Cyclone Concentrate/Gramoxone Max | Dimethyl-4,4'-bipyridinium dichloride
010182 TX-96-0008 | Gramoxone Extra Herbicide | Dimethyl-4,4'-bipyridinium dichloride
010404-00015 | Lesco 2.32 Granular Insecticide | Diethyl O-(3,5,6-trichloro-2-pyridyl) phosphorothioate
010404-00027 | Lesco Dursban(R) 0.97% Plus Fertilizer | Diethyl O-(3,5,6-trichloro-2-pyridyl) phosphorothioate
010404-00029 | Lesco Dursban(r) 0.74% Plus Fertilizer | Diethyl O-(3,5,6-trichloro-2-pyridyl) phosphorothioate
010404-00040 | Lesco Dursban(R) 0.42% Plus Fertilizer | Diethyl O-(3,5,6-trichloro-2-pyridyl) phosphorothioate
010404-00081 | Lesco 0.97 Dursban Granules | Diethyl O-(3,5,6-trichloro-2-pyridyl) phosphorothioate
011474-00090 | Sungro Buggone II Residual Insecticide | Diethyl O-(3,5,6-trichloro-2-pyridyl) phosphorothioate Butylcarbityl)(6-propylpiperonyl) ether 80% and related compounds 20% Pyrethrins
011715-00018 | Speer Pyrenone Dairy Aerosol | Butylcarbityl)(6-propylpiperonyl) ether 80% and related compounds 20% Pyrethrins
011725-00010 | Bio-Phenol 67 | Amylphenol
015440-00012 | Technical 2-(2,4-Dichlorophenoxy) Propionic Acid | Dichlorophenoxy)propionic acid
015440-00014 | Marks CMPP (Mecoprop) Technical Acid | Methyl-4-chlorophenoxy)propionic acid
015440-00016 | Marks Technical Iso-Octyl Ester of 2.4-DP | Isooctyl 2-(2,4-dichlorophenoxy)propionate
015440-00017 | Technical Mecoprop | Methyl-4-chlorophenoxy)propionic acid
019713-00504 | Drexel Chlorpyrifos 4E | Diethyl O-(3,5,6-trichloro-2-pyridyl) phosphorothioate
019713 OR-93-0023 | Ida, Inc. Diuron 80W | Dichlorophenyl)-1,1-dimethylurea
019713 OR-96-0024 | Drexel Dimethoate 4EC | Dimethyl S-((methylcarbamoyl)methyl) phosphorodithioate
019713 OR-97-0017 | Drexel Dimethoate 4EC | Dimethyl S-((methylcarbamoyl)methyl) phosphorodithioate
019713 WA-89-0011 | Drexel Diuron 4l Herbicide | Dichlorophenyl)-1,1-dimethylurea
019713 WA-96-0018 | Drexel Dimethoate 4EC | Dimethyl S-((methylcarbamoyl)methyl) phosphorodithioate
019713 WA-97-0026 | Drexel Dimethoate 4EC | Dimethyl S-((methylcarbamoyl)methyl) phosphorodithioate
026693-00002 | Killmaster II | Diethyl O-(3,5,6-trichloro-2-pyridyl) phosphorothioate
028293-00087 | Unicorn House and Carpet Spray | Diethyl O-(3,5,6-trichloro-2-pyridyl) phosphorothioate Butylcarbityl)(6-propylpiperonyl) ether 80% and related compounds 20% Pyrethrins
028293-00099 | Unicorn Dursban Spray | Diethyl O-(3,5,6-trichloro-2-pyridyl) phosphorothioate
028293-00121 | Unicorn Dursban - Resmethrin Spray | Diethyl O-(3,5,6-trichloro-2-pyridyl) phosphorothioate Benzyl-3-furyl)methyl 2,2-dimethyl-3-(2-methylpropenyl)cyclopropanecarboxylate
028293-00142 | Unicorn Packaging & Processing Plant Aerosol Spray | Methyl-4-oxo-3-(2-propenyl)-2-cyclopenten-1-yl d-trans-2,2-dimethyl-3-(2-methyl-1-propenyl)c Octyl bicycloheptene dicarboximide Diethyl O-(3,5,6-trichloro-2-pyridyl) phosphorothioate
028293-00149 | Unicorn House and Carpet Spray II | Methyl-4-oxo-3-(2-propenyl)-2-cyclopenten-1-yl d-trans-2,2-dimethyl-3-(2-methyl-1-propenyl)c Octyl bicycloheptene dicarboximide Diethyl O-(3,5,6-trichloro-2-pyridyl) phosphorothioate
028293-00200 | Unicorn Dursban 2E | Diethyl O-(3,5,6-trichloro-2-pyridyl) phosphorothioate
028293-00201 | Unicorn Dursban 2.5%G Granules | Diethyl O-(3,5,6-trichloro-2-pyridyl) phosphorothioate
028293-00202 | Unicorn Dursban 1.0%G Granules | Diethyl O-(3,5,6-trichloro-2-pyridyl) phosphorothioate
028293-00203 | Unicorn Dursban 1%-D Dust. | Diethyl O-(3,5,6-trichloro-2-pyridyl) phosphorothioate
028293-00204 | Unicorn Dursban 4E | Diethyl O-(3,5,6-trichloro-2-pyridyl) phosphorothioate
028293-00205 | Unicorn Dursban 1-12 | Diethyl O-(3,5,6-trichloro-2-pyridyl) phosphorothioate
028293-00210 | Dursban 1-E Insecticide | Diethyl O-(3,5,6-trichloro-2-pyridyl) phosphorothioate
028293-00265 | Unicorn Dursban 6.7% Insecticide | Diethyl O-(3,5,6-trichloro-2-pyridyl) phosphorothioate
034704-00055 | Clean Crop Chlorpyrifos 1/2G Turf Insecticide | Diethyl O-(3,5,6-trichloro-2-pyridyl) phosphorothioate
034704-00065 | Chlorpyrifos 2E | Diethyl O-(3,5,6-trichloro-2-pyridyl) phosphorothioate
034704-00066 | Clean Crop Chlorpyrifos 4E Insecticide | Diethyl O-(3,5,6-trichloro-2-pyridyl) phosphorothioate
034704-00351 | Dibrom 8 Miscible | Dibromo-2,2-dichloroethyl dimethyl phosphate
034704-00423 | Dursban 2 Coated Granules | Diethyl O-(3,5,6-trichloro-2-pyridyl) phosphorothioate
034704-00448 | Clean Crop Dursban 1G Insecticide | Diethyl O-(3,5,6-trichloro-2-pyridyl) phosphorothioate
034704-00546 | Clean Crop Dibrom 8 EC | Dibromo-2,2-dichloroethyl dimethyl phosphate
034704-00616 | Clean Crop N 1% Fly &Mosquito Spray | Dibromo-2,2-dichloroethyl dimethyl phosphate
034704-00693 | Clean Crop Chlorpyrifos 50WP Seed Treater | Diethyl O-(3,5,6-trichloro-2-pyridyl) phosphorothioate
034704-00788 | Dimethoate Technical | Dimethyl S-((methylcarbamoyl)methyl) phosphorodithioate
034704-00797 | 2,4-Dichlorophenoxy Acetic Acid Flakes | Dichlorophenoxyacetic acid
034704-00798 | 2,4-D Acid Technical | Dichlorophenoxyacetic acid
034704-00826 | Chlorpyrifos Technical | Diethyl O-(3,5,6-trichloro-2-pyridyl) phosphorothioate
034704 WA-82-0046 | Clean Crop Sulfur 6 Flowable | Sulfur
034704 WA-93-0004 | Clean Crop Low Vol 6 Ester Weed Killer | Acetic acid,(2,4-dichlorophenoxy)-, 2-ethylhexyl ester
034704 WA-95-0010 | Clean Crop Atrazine 90WDG Turf & Conifer Herbicide | Chloro-4-(ethylamino)-6-(isopropylamino)-s-triazine
034704 WA-97-0037 | Clean Crop Trifluralin HF | Trifluralin ( a,a,a-trifluro-2,6-dinitro-N,N-dipropyl-p-toluidine ) (Note: a = alpha)
034704 WA-98-0003 | Clean Crop Trifluralin HF | Trifluralin ( a,a,a-trifluro-2,6-dinitro-N,N-dipropyl-p-toluidine ) (Note: a = alpha)
035512-00036 | Turf Pride With 0.67% Dursban | Diethyl O-(3,5,6-trichloro-2-pyridyl) phosphorothioate
039039-00002 | Max-Con Insecticide Ear Tags | Diethyl O-(3,5,6-trichloro-2-pyridyl) phosphorothioate Butylcarbityl)(6-propylpiperonyl) ether 80% and related compounds 20% Cyclopropanecarboxylic acid, 3-(2,2-dichloroethenyl)-2,2-dimethyl-, cyano(3-phenoxyphenyl)me
047006-00005 | Orlik Dursban Granules | Diethyl O-(3,5,6-trichloro-2-pyridyl) phosphorothioate
050534 NJ-96-0001 | Bravo 720 | Tetrachloroisophthalonitrile
050534 NJ-96-0002 | Bravo 825 | Tetrachloroisophthalonitrile
050534 NJ-97-0002 | Bravo 825 | Tetrachloroisophthalonitrile
050534 NJ-97-0003 | Bravo 720 | Tetrachloroisophthalonitrile
050534 WA-88-0013 | Bravo 720 | Tetrachloroisophthalonitrile
051036 MS-95-0001 | Micro Flo Chlorpyrifos Termite Concentrate | Diethyl O-(3,5,6-trichloro-2-pyridyl) phosphorothioate
059639-00029 | Orthene 80 Seed Protectant | Dimethyl acetylphosphoramidothioate
059639-00085 | Orthene 80 WSP Seed Protectant | Dimethyl acetylphosphoramidothioate
059639 AZ-94-0002 | Payload 15 Granular | Dimethyl acetylphosphoramidothioate
059639 AZ-95-0006 | Danitol 2.4 EC Spray (insecticide-Miticide) | Cyano-3-phenoxybenzyl 2,2,3,3-tetramethylcyclopropanecarboxylate
059639 LA-02-0008 | Orthene 90 S | Dimethyl acetylphosphoramidothioate
059639 OH-00-0006 | Orthene 97 Pellets | Dimethyl acetylphosphoramidothioate
059639 WA-03-0003 | Valor Herbicide | Fluoro-6-(3,4,5,6-tetrahydrophthalimido)-4-(2-propynyl)-1,4-benzoxazin-3(2H)-one
062719-00014 | Dursban 1/2 G Granular | Diethyl O-(3,5,6-trichloro-2-pyridyl) phosphorothioate
062719-00035 | Dursban Turf Insecticide | Diethyl O-(3,5,6-trichloro-2-pyridyl) phosphorothioate
062719-00038 | Lorsban 50-Sl Wettable Powder | Diethyl O-(3,5,6-trichloro-2-pyridyl) phosphorothioate
062719-00039 | Lorsban 50W Wettable Powder | Diethyl O-(3,5,6-trichloro-2-pyridyl) phosphorothioate
062719-00054 | Dursban 1-D | Diethyl O-(3,5,6-trichloro-2-pyridyl) phosphorothioate
062719-00068 | Dursban 50W | Diethyl O-(3,5,6-trichloro-2-pyridyl) phosphorothioate
062719-00167 | Equity | Diethyl O-(3,5,6-trichloro-2-pyridyl) phosphorothioate
062719-00255 | Dursban 50W-N In Water Soluble Packets | Diethyl O-(3,5,6-trichloro-2-pyridyl) phosphorothioate
062719-00293 | Dursban 75WG | Diethyl O-(3,5,6-trichloro-2-pyridyl) phosphorothioate
062719-00295 | Lorsban 30G | Diethyl O-(3,5,6-trichloro-2-pyridyl) phosphorothioate
062719-00316 | Dursban* Plus Fertilizer 2 | Diethyl O-(3,5,6-trichloro-2-pyridyl) phosphorothioate
062719-00349 | Lentrek 6 | Diethyl O-(3,5,6-trichloro-2-pyridyl) phosphorothioate
062719-00350 | XRM-5222 | Diethyl O-(3,5,6-trichloro-2-pyridyl) phosphorothioate
062719-00354 | Dursban 30 SEC | Diethyl O-(3,5,6-trichloro-2-pyridyl) phosphorothioate
062719-00380 | Lorsban 12.6% | Diethyl O-(3,5,6-trichloro-2-pyridyl) phosphorothioate
062719-00382 | Chlorfos 4E Insecticide | Diethyl O-(3,5,6-trichloro-2-pyridyl) phosphorothioate
062719-00383 | Chlorfos 15G | Diethyl O-(3,5,6-trichloro-2-pyridyl) phosphorothioate
062719 CA-86-0066 | Lorsban 50W | Diethyl O-(3,5,6-trichloro-2-pyridyl) phosphorothioate
062719 CA-94-0017 | Lorsban 4E-HF | Diethyl O-(3,5,6-trichloro-2-pyridyl) phosphorothioate
062719 FL-92-0007 | Lorsban 50W | Diethyl O-(3,5,6-trichloro-2-pyridyl) phosphorothioate
062719 HI-93-0011 | Lorsban 50W Insecticide In Water Soluble Packets | Diethyl O-(3,5,6-trichloro-2-pyridyl) phosphorothioate
062719 ID-86-0017 | Dow Dursban 4E Insecticide | Diethyl O-(3,5,6-trichloro-2-pyridyl) phosphorothioate
062719 LA-96-0005 | Dursban Tc Concentrate | Diethyl O-(3,5,6-trichloro-2-pyridyl) phosphorothioate
062719 LA-96-0007 | Equity Termiticide Concentrate | Diethyl O-(3,5,6-trichloro-2-pyridyl) phosphorothioate
062719 MN-96-0003 | Lorsban 4E-SG | Diethyl O-(3,5,6-trichloro-2-pyridyl) phosphorothioate
062719 MS-91-0008 | Equity Termiticide Concentrate | Diethyl O-(3,5,6-trichloro-2-pyridyl) phosphorothioate
062719 MS-93-0012 | Dursban 4E Insecticide | Diethyl O-(3,5,6-trichloro-2-pyridyl) phosphorothioate
062719 MS-96-0008 | Dursban TC Concentrate | Diethyl O-(3,5,6-trichloro-2-pyridyl) phosphorothioate
062719 MS-96-0009 | Equity Termiticide Concentrate | Diethyl O-(3,5,6-trichloro-2-pyridyl) phosphorothioate
062719 MS-96-0010 | Dursban TC Concentrate | Diethyl O-(3,5,6-trichloro-2-pyridyl) phosphorothioate
062719 MS-96-0014 | Dursban TC Concentrate | Diethyl O-(3,5,6-trichloro-2-pyridyl) phosphorothioate
062719 ND-95-0006 | Lorsban 4E-SG | Diethyl O-(3,5,6-trichloro-2-pyridyl) phosphorothioate
062719 SC-96-0003 | Dursban TC Concentrate | Diethyl O-(3,5,6-trichloro-2-pyridyl) phosphorothioate
062719 SC-96-0004 | Dursban TC Concentrate | Diethyl O-(3,5,6-trichloro-2-pyridyl) phosphorothioate
062719 SC-96-0005 | Equity Termiticide Concentrate | Diethyl O-(3,5,6-trichloro-2-pyridyl) phosphorothioate
062719 TN-90-0007 | Dursban Turf Insecticide | Diethyl O-(3,5,6-trichloro-2-pyridyl) phosphorothioate
062719 WA-94-0014 | Dithane DF Agricultural Fungicide | Zinc ion andmanganese ethylenebisdithiocarbamate, coordination product
062719 WA-96-0022 | Dithane DF Agricultural Fungicide | Zinc ion andmanganese ethylenebisdithiocarbamate, coordination product
066196 AZ-98-0010 | Lime-Sulfur Solution | Calcium polysulfide
066222-00004 | Pyrinex Chlorpyrifos 2.3 | Aromatic petroleum derivative solvent Diethyl O-(3,5,6-trichloro-2-pyridyl) phosphorothioate
066222-00005 | Bonide Lawn and Ornamental Insecticide W/Dursban* 2E | Diethyl O-(3,5,6-trichloro-2-pyridyl) phosphorothioate
066222-00006 | Pyrinex Chlorpyrifos 2E Insecticide | Diethyl O-(3,5,6-trichloro-2-pyridyl) phosphorothioate
071523 WA-98-0006 | Vinco Formaldehyde Solution | Formaldehyde
071711 OR-02-0007 | Moncut 70-DF | Trifluoro-3'-isopropoxy-o-toluanalide

Unless a request is withdrawn by the registrant within 180 days (30 days where indicated) of publication of this notice, orders will be issued canceling all of these registrations. Users of these pesticides or anyone else desiring the retention of a registration should contact the applicable registrant directly during either of these comment periods.

Table 2 of this unit includes the names and addresses of record for all registrants of the products in Table 1 of this unit, in sequence by EPA company number:

Table 2.—Registrants Requesting Voluntary Cancellation
EPA Company no. | Company Name and Address
000056 | Eaton Jt & Co. Inc., 1393 E. Highland Rd., Twinsbu, OH 44087.
000070 | Value Gardens Supply, LLC, PO Box 585, St. Jose, MO 64502.
000100 | Syngenta Crop Protection, Inc., Attn: Regulatory Affairs, Po Box 18300, Greensboro, NC 274198300.
000192 | Value Gardens Supply, LLC, PO Box 585, St. Jose, MO 64502.
000228 | Nufarm Americas Inc., D/b/a Riverdale - A Nufarm Co., 1333 Burr Ridge Parkway, Suite 125a, Burr Rid, IL 605270866.
000241 | BASF Corp., PO Box 13528, Research Triangle Park, NC 27709-3528.
000264 | Bayer Cropscience LP, 2 T.W. Alexander Drive, Research Triangle Park, NC 27709.
000279 | FMC Corp. Agricultural Products Group, 1735 Market St., Philadelph, PA 19103.
000352 | E. I. Du Pont De Nemours & Co., Inc., Dupont Crop Protection (S300/419), Stine-Haskell Research Center, Newark, DE 19714-0030.
000400 | Crompton Mfg. Co., Inc., 74 Amity Rd, Betha, CT 06524-3402.
000464 | The Dow Chemical Co., Attn: Rhonda Vance-Moeser, 1803 Building, Midla, MI 48674.
000499 | Whitmire Micro-Gen Research Laboratories Inc., 3568 Tree Ct Industrial Blvd, St Louis, MO 63122-6682.
000524 | Monsanto Co., 600 13th Street, NW, Suite 660, Washington, DC 20005.
000769 | Value Gardens Supply, LLC, PO Box 585, St. Jose, MO 64502.
000829 | Southern Agricultural Insecticides, Inc., PO Box 218, Palmet, FL 34220.
001022 | IBC Mfg. Co, c/o Gail Early, 416 E. Brooks Rd., Memphis, TN 38109.
001386 | Universal Cooperatives Inc., 1300 Corporate Center Curve, Eag, MN 55121.
001812 | Griffin L.L.C., PO Box 1847, Valdos, GA 31603-1847.
002517 | Brazos Associates, Inc., Agent For: Sergeant's Pet Care Products, Inc., 1806 Auburn Drive, Carrollt, TX 75007-1451.
002724 | Wellmark International, 1100 E. Woodfield Rd., Suite 500, Schaumbu, IL 60173.
002935 | Wilbur Ellis Co., PO Box 1286, Fres, CA 93715.
003125 | Bayer Corp., Agriculture Division, 8400 Hawthorn Rd, Kansas City, MO 641200013.
004822 | S.C. Johnson & Son Inc., 1525 Howe Street, Racine, WI 53403.
005481 | AMVAC Chemical Corp., Attn: Jon C. Wood, 4695 Macarthur Ct., Suite 1250, Newport Beach, CA 92660-1706.
005625 | Tempo Products Co., 6200 Cochran Rd., Sol, OH 44139.
007501 | Gustafson LLC, PO Box 660065, Dallas, TX 75266.
007969 | BASF Corp., Agricultural Products, 26 Davis Drive, Research Triangle Park, NC 27709-3528.
008378 | Knox Fertilizer Co Inc., W. Culver Rd., Kn, IN 46534.
008660 | Sylorr Plant Corp., PO Box 142642, St. Louis, MO 63114-0642.
008848 | Safeguard Chemical Corp., 411 Wales Ave, Bro, NY 10454.
009198 | The Andersons Lawn Fertilizer Division, Inc., Dba/ Free Flow Fertilizer, Po Box 119, Maum, OH 43537.
009444 | Waterbury Companies Inc., 120 Calhoun Street, Independen, LA 70443.
010088 | Athea Laboratories Inc., PO Box 240014, Milwaukee, WI 53224.
010163 | Gowan Co, PO Box 5569, Yuma, AZ 85366-5569.
010404 | Lesco Inc., 15885 Sprague Rd., Strongsvil, OH 44136.
011474 | Sungro Chemicals, Inc., P. O. Box 24632, Los Angeles, CA 90024.
011715 | Speer Products Inc., 4242 B.F. Goodrich Blvd., Memphis, TN 381810993.
011725 | Lewis & Harrison, Agent For: Bio-Tek Industries Inc., 122 C St NW, Ste 740, Washington, DC 20001.
015440 | Registration & Regulatory Services, Agent For: A H Marks & Co Ltd, PMB 239, 7474 Creedmoor Rd., Raleigh, NC 27613.
019713 | Drexel Chemical Co, 1700 Channel Ave., Memphis, TN 38113-0327.
026693 | Positive Formulators, Inc., 1044 N. Jerrie Ave., Tucson, AZ 85711.
028293 | Unicorn Laboratories, 12385 Automobile Blvd., Clearwater, FL 33762.
034704 | Loveland Products, Inc., PO Box 1286, Greel, CO 80632-1286.
035512 | Registrations By Design Inc., Agent For: Howard Fertilizer & Chemical Co.,, 118 1/2 E Main Street, Suite 1, Sal, VA 24153.
039039 | Y-Tex Corp., 1825 Big Horn Ave., Co, WY 82414.
047006 | Phaeton Corp., 12385 Automobile Blvd., Clearwater, FL 33762.
050534 | GB Biosciences Corp., 410 Swing Rd., Greensbore, NC 27419-5458.
051036 | Micro-Flo Co. LLC, PO Box 772099, Memphis, TN 38117-2099.
059639 | Valent U.S.A. Corp., 1600 Riviera Ave. Suite 200, Walnut Cre, CA 94596.
062719 | Dow Agrosciences LLC, 9330 Zionsville Rd 308/2E225, Indianapolis, IN 46268-1054.
066196 | Ag Formulators Inc., 5427 E. Central Ave., Fres, CA 93725.
066222 | Makhteshim-Agan of North America Inc., 551 Fifth Ave.- Ste 1100, New York, NY 10176.
071523 | Holland America Bulb Farms, Inc., 1066 South Pekin Rd., Woodla, WA 98674.
071711 | Nichino America, Inc., 4550 New Linden Hill Rd., Suite 501, Wilmington, DE 19808.

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before periods indicated in DATES section. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical.

List of Subjects

Environmental protection, Pesticides and pests.

Dated: August 3, 2004.
Arnold E. Layne,
Director, Information Resources Services Division, Office of Pesticide Programs.

[FR Doc. 04-18768 Filed 8-17-04; 8:45 am]

BILLING CODE 6560-50-S